DEPARTMENT OF ENERGY

[Docket No. PP-371]

Informational Notice Regarding Public Notification Procedures for the Northern Pass Transmission Line Project

AGENCY: Department of Energy.

ACTION: Notice of changes to the public notification procedures for consultation under the National Historic Preservation Act for the Northern Pass Transmission Line Project.

SUMMARY: The U.S. Department of Energy (DOE) is notifying the public of changes to the public notification procedures for consultation under the National Historic Preservation Act for the Northern Pass Transmission Line Project, including implementation of the Programmatic Agreement developed for the Project.

DATES: DOE is changing the public notification procedures for consultation under the National Historic Preservation Act for the Northern Pass Transmission Line Project effective June 14, 2017.

ADDRESSES: Requests for information about the proposed project and DOE's Section 106 review should be addressed to: Brian Mills, Office of Electricity Delivery and Energy Reliability (OE-20), U.S. Department of Energy, 1000 Independence Avenue SW., Washington, DC 20585; or by email to Brian.Mills@hq.doe.gov.

FOR FURTHER INFORMATION CONTACT: For information on DOE's review of the Presidential permit application, contact Brian Mills by one of the methods listed in ADDRESSES above, or at 202-586-8267.

SUPPLEMENTARY INFORMATION:

Background

Executive Order (E.O.) 10485, as amended by E.O. 12038, requires that before an electric transmission facility may be constructed, operated, maintained, or connected at the U.S. international border, a Presidential permit must be issued by DOE. E.O. 10485 provides that DOE may issue a Presidential permit upon finding issuance of the permit to be consistent with the public interest and after obtaining favorable recommendations from the U.S. Departments of State and Defense. In determining whether issuance of a Presidential permit would be consistent with the public interest, DOE takes into account the potential effects of the issuance of a Presidential permit for the proposed project's international border crossing on historic properties listed in or eligible for listing in the National Register of Historic Places (NRHP) and gives the Advisory Council on Historic Preservation (ACHP) and state historic preservation offices (SHPOs) an opportunity to comment, in accordance with Section 106 of the National Historic Preservation Act (NHPA) of 1966 (54 United States Code (U.S.C.) 306108) (Section 106), as amended, and the Section 106 implementing regulations (36 CFR part 800).

On October 14, 2010, NPT applied to DOE for a Presidential permit to construct, operate, maintain, and connect a high-voltage direct current (HVDC) transmission line across the U.S.-Canada border (the proposed Project). On July 1, 2013, NPT submitted an amended Presidential permit application to DOE (see 78 FR 50405 (Aug. 19, 2013)). On August 31, 2015, NPT further amended its Presidential permit application to DOE (see 80 FR 58725 (Sep. 30, 2015)). The amended applications are summarized below.

Applicant's Proposal

In the July 2013 amended application, NPT proposed to construct and operate a primarily overhead high voltage direct current (HVDC) electric transmission line that would originate at an HVDC converter station to be constructed at the Des Cantons Substation in Québec, Canada, then would be converted from HVDC to alternating current (AC) in Franklin, NH, and would continue to its southern terminus in Deerfield, NH. The proposed facilities would be capable of transmitting up to 1200 megawatts (MW) of power.

The New Hampshire portion of the proposed Project would be a single circuit 300 kilovolt (kV) HVDC transmission line running approximately 153 miles from the U.S. border crossing with Canada near the community of Pittsburg, NH, to a new HVDC-to-AC transformer facility to be constructed in Franklin, NH. From Franklin, NH, to the Project terminus at the Public Service Company of New Hampshire's existing Deerfield Substation located in Deerfield, NH, the proposed Project would consist of 34 miles of 345-kV AC electric transmission line. The total length of the proposed Project would be approximately 187 miles.

NPT's August 2015 application amendment (80 FR 58725) changed the proposed transmission line route by adding three miles of buried transmission line adjacent to a road not previously analyzed, adding two new transition stations (one in Bridgewater and one in Bethlehem; both would transition the transmission line between aboveground and buried) of approximately one acre each, and increasing the amount of proposed buried transmission line from approximately eight miles to approximately 60 miles with a total proposed Project length of approximately 192 miles. In addition, the amendment proposed a minor shift (less than 100 feet) in the international border crossing location, changed the project size from 1,200 MW to 1,000 MW with a potential transfer capability of 1,090 MW and included other design changes (e.g., change in converter technology and type of cable). A copy of the amended Presidential permit application and maps of the proposed Project route can be found at the DOE environmental impact statement (EIS) Web site (http://www.northernpasseis.us).

Section 106 Review

Section 106 of the NHPA requires federal agencies to take into account the potential effects of their undertakings that require federal funding, approvals, or permits on historic properties and to give the ACHP and SHPOs an opportunity to comment. Compliance with Section 106 also requires consultation with other consulting parties, which may include federally-recognized Indian tribes, representatives of local governments, the applicant, certain individuals and organizations with a demonstrated interest in the proposed undertaking due to the nature of their legal or economic relation to the undertaking or affected properties, or their concern with the undertaking's effects on historic properties (36 CFR 800.2). The public is also a participant in the Section 106 process, and federal agencies must also seek and consider the views of the public (36 CFR 800.2(d)). If adverse effects on historic properties are anticipated, agencies develop measures to avoid, minimize, or mitigate those adverse effects through consultation.

DOE initiated Section 106 consultation with the NH SHPO—the New Hampshire Division of Historical Resources—in February 2011 in response to NPT's 2010 Presidential permit application. DOE suspended its Section 106 consultation following notification from NPT that NPT would be submitting an amended Presidential permit application. DOE re-engaged the NH SHPO in 2013 to continue Section 106 consultation on NPT's amended Presidential permit application submission; through consultation with the NH SHPO and other consulting federal agencies, DOE defined the area of potential effects (APE) (36 CFR 800.16(d)) and identified potential additional consulting parties (36 CFR 800.2). The ACHP was invited to participate in DOE's Section 106 consultation in January 2014; ACHP formally joined DOE's Section 106 consultation in February 2015. Additional consulting parties (36 CFR 800.2) were invited to participate in DOE's Section 106 consultation in January 2014. DOE initiated consultation with the VT SHPO—the Vermont Division of Historic Preservation—in June 2016 to address the portion of the APE within Vermont.

When the potential effects on historic properties are complex, involve large land areas, and cannot be fully determined prior to approval of an undertaking, an agency's obligations under Section 106 are satisfied by negotiation and execution of a legally binding agreement called a Programmatic Agreement or PA. DOE has developed a draft PA through which it proposes to satisfy the Section 106 requirements for the proposed Northern Pass project. All information for the public regarding the Section 106 process are available at DOE's Section 106 Consultation Page for the proposed Northern Pass Transmission Line Project: http://www.northernpasseis.us/consultations/section106/.

Change in Public Notification Procedure for Section 106 Consultation

The Section 106 implementing regulations provide for specific public involvement opportunities in the Section 106 process. The level of public involvement is determined on a project-by-project basis by the federal agency implementing Section 106. DOE previously indicated that it would notify the public about the Section 106 process through future Federal Register notices (see 78 FR 54876 (Sept. 6, 2013)). DOE is no longer using the Federal Register to notify the public regarding Section 106. Going forward, DOE will continue to provide updates and information to the public, including about opportunities for public involvement, regarding the Section 106 process through DOE's Section 106 Consultation Page for the Project: http://www.northernpasseis.us/consultations/section106/. In accordance with this decision, on June 14, 2017, DOE notified the public that the draft Section 106 Programmatic Agreement for the Northern Pass Transmission Project was available to the public at this site.

Issued in Washington, DC, on June 16, 2017.
Brian Mills,
Director, Transmission Permitting & Technical Assistance, Office of Electricity Delivery and Energy Reliability.

[FR Doc. 2017-13418 Filed 6-26-17; 8:45 am]

BILLING CODE 6450-01-P